DEPARTMENT OF TRANSPORTATION

Federal Aviation Administration

14 CFR Part 71

[Docket No. FAA-2008-0923; Airspace Docket 08-AEA-22]

Modification of Class E Airspace; Culpeper, VA; Removal of Class E Airspace; Pelham Lake, VA

AGENCY: Federal Aviation Administration (FAA), DOT.

ACTION: Direct Final rule, Request for Comments.

SUMMARY: This action modifies and restores Class E airspace that had inadvertently been omitted at Culpeper, VA. Additionally, this action transfers airspace listed under Pelham Lake, VA to that listed under Culpeper, VA, more appropriately identifying its official location. This rule increases the safety and management of the National Airspace System (NAS) around the Culpeper Regional Airport and the Culpeper Memorial Hospital Heliport.

DATES: Effective 0901 UTC, January 15, 2009. The Director of the Federal Register approves this incorporation by reference action under title 1, Code of Federal Regulations, part 51, subject to the annual revision of FAA Order 7400.9 and publication of conforming amendments. Comments for inclusion in the Rules Docket must be received on or before December 1, 2008.

ADDRESSES: Send comments on this rule to: U.S. Department of Transportation, Docket Operations, West Building, Ground Floor, Room W12-140, 1200 New Jersey, SE., Washington, DC 20590-0001; Telephone: 1-800 647-5527; Fax: 202-493-2251. You must identify the Docket Number FAA-2008-0923; Airspace Docket No. 08-AEA-22, at the beginning of your comments. You may also submit and review received comments through the Internet at http://www.regulations.gov.

You may review the public docket containing the rule, any comments received, and any final disposition in person in the Dockets Office (see ADDRESSES section for address and phone number) between 9 a.m. and 5 p.m., Monday through Friday, except Federal Holidays.

An informal docket may also be examined during normal business hours at the office of the Eastern Service Center, Federal Aviation Administration, Room 210, 1701 Columbia Avenue, College Park, Georgia 30337.

FOR FURTHER INFORMATION CONTACT: Daryl Daniels, Operations Support, Eastern Service Center, Federal Aviation Administration, P.O. Box 20636, Atlanta, Georgia 30320; telephone (404) 305-5581.

SUPPLEMENTARY INFORMATION:

The Direct Final Rule Procedure

The FAA anticipates that this regulation will not result in adverse or negative comments, and, therefore, issues it as a direct final rule. The FAA has determined that this rule only involves an established body of technical regulations for which frequent and routine amendments are necessary to keep them operationally current. This rule is effective and there will be no further action by the FAA unless a written adverse or negative comment or a written notice of intent to submit an adverse or negative comment is received within the comment period. If the FAA receives, within the comment period, an adverse or negative comment, or written notice of intent to submit such a comment, a document withdrawing the direct final rule will be published in the Federal Register, and a notice of proposed rulemaking may be published with a new comment period.

Comments Invited

Although this action is in the form of a direct final rule, and was not preceded by a notice of proposed rulemaking, interested persons are invited to comment on this rule by submitting such written data, views, or arguments as they may desire. An electronic copy of this document may be downloaded from and comments may be submitted and reviewed at http://www.regulations.gov. Recently published rulemaking documents can also be accessed through the FAA's Web page at http://www.faa.gov. or the Federal Register's Web page at http://www.gpoaccess.gov/fr/index.html. Communications should identify both docket numbers and be submitted in triplicate to the address specified under the caption ADDRESSES above or through the Web site. All communications received on or before the closing date for comments will be considered, and this rule may be amended or withdrawn in light of the comments received.

Comments are specifically invited on the overall regulatory, economic, environmental, and energy aspects of the rule that might suggest a need to modify the rule. Factual information that supports the commenter's ideas and suggestions is extremely helpful in evaluating the effectiveness of this action and determining whether additional rulemaking action would be needed. All comments submitted will be available, both before and after the closing date for comments, in the Rules Docket for examination by interested persons. Those wishing the FAA to acknowledge receipt of their comments submitted in response to this rule must submit a self-addressed, stamped postcard on which the following statement is made: “Comments to Docket No. FAA-2008-0923; Airspace Docket No. 08-AEA-22.” The postcard will be date stamped and returned to the commenter.

History

Class E airspace is established via rulemaking provisions set forth by the FAA, Department of Transportation and other Agencies of these United States of America. Due to the large number and frequency of changes, the designations are not carried in Title 14, Code of Federal Regulations (14 CFR), part 71. For ease of reference, the FAA provides a compilation of airspace designations and reporting points via FAA Order 7400.9. An evaluation uncovered an omission from the FAA Order 7400.9R caused by a rulemaking airspace action intended to supplement the established Class E airspace at Culpeper, VA. It was also discovered that the referenced city for airspace around Culpeper Memorial Hospital Heliport was addressed to a local community area (Pelham Lake) instead of being appropriately associated with the city of Culpeper. This action additionally corrects the spelling as shown in FAA Order 7400.9R from Culpepper to Culpeper. Minor changes to the dimensions to the established Class E airspace have become necessary due to better computation methods of established Standard Instrument Approach Procedures.

The Rule

This amendment to Title 14, Code of Federal Regulations (14 CFR) part 71 modifies E5 airspace at Culpeper, VA by reconstituting previously omitted airspace descriptions for the Culpeper Regional Airport, amending said airspace by replacing the decommissioned Culpeper NDB with the Nailr NDB and extending the airspace to 16 miles southwest of the Nailr NDB. Additionally this amendment removes the Culpeper Memorial Hospital's airspace that is linked with Pelham Lake, VA, appropriately associates this Hospital's airspace with the city of Culpeper, VA and substitutes the UDNEW WAYPOINT for the listed Point in Space Coordinates, being the same and part of the Instrument Approach Procedure that is used to develop the airspace serving the Hospital.

Class E5 airspace designations for airspace areas extending upwards from 700 feet above the surface of the Earth are published in Paragraph 6005 of FAA Order 7400.9R, dated August 15, 2007, and effective September 15, 2007, which is incorporated by reference in 14 CFR 71.1. The Class E5 airspace designations listed in this document will be published subsequently in the Order.

Agency Findings

The regulations adopted herein will not have substantial direct effects on the States, on the relationship between the national government and the States, or on the distribution of power and responsibilities among various levels of government. Therefore, it is determined that this final rule does not have federalism implications under Executive Order 13132.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in Subtitle VII, Part A, Subpart I, section 40103. Under that section, the FAA is charged with prescribing regulations to assign the use of airspace necessary to ensure the safety of aircraft and the efficient use of airspace. This regulation is within the scope of that authority as it modifies the Class E Airspace at Culpeper Regional Airport and Culpeper Memorial Hospital located in Culpeper, VA.

List of Subjects in 14 CFR Part 71

Airspace, Incorporation by reference, Navigation (air).

Adoption of the Amendment

In consideration of the foregoing, the Federal Aviation Administration proposes to amend 14 CFR Part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, dated August 15, 2007, and effective September 15, 2007, is amended as follows:

Paragraph 6005 Class E Airspace Areas Extending Upward From 700 Feet or More Above the Surface of the Earth.

* * * * *

AEA VA E5 Culpeper, VA [Revised]

Culpeper Regional Airport

(Lat. 38°31′32″ N., long. 77°51′35″ W.)

Nailr NDB

(Lat. 38°27′16″ N., long. 77°54′19″ W.)

Culpeper Memorial Hospital Heliport

(Lat. 38°27′18″ N., long. 78°00′49″ W.)

UDNEW WAYPOINT

(Lat. 38°27′54″ N., long. 78°01′07″ W.)

That airspace extending upward from 700 feet above the surface of the Earth within a 6.5-mile radius of Culpeper Regional Airport and within 8 miles either side of the 217° bearing from the Nailr NDB to 16 miles southwest of the NDB, and that airspace within a 6.0-mile radius of the UDNEW WAYPOINT that serves the Culpeper Memorial Hospital Heliport.

* * * * *

AEA VA E5 Pelham Lake, VA [Remove]

* * * * *

Issued in College Park, Georgia, on August 26, 2008.
Mark D. Ward,
Manager, Operations Support Group, Eastern Service Center, Air Traffic Organization.

[FR Doc. E8-22467 Filed 10-14-08; 8:45 am]

BILLING CODE 4910-13-M